DEPARTMENT OF THE TREASURY

Internal Revenue Service

26 CFR Part 1

[REG-106736-00]

RIN 1545-AX93

Assumption of Partner Liabilities

Correction

In proposed rule document 03-15282 beginning on page 37434 in the issue of Tuesday, June 24, 2003, make the following corrections:

§ 1.752-0 [Corrected]

1. On page 37440, in the second column, in § 1.752-0, in the first line, “1.752-6” should read, “§ 1.752-6”.

§ 1.752-7 [Corrected]

2. On page 37442, in the second column, in § 1.752-7(b)(9), in the last line, ““’1.752-1” should read, “§ 1.752-1”.

3. On page 37443, in the third column, in § 1.752-7(e)(2), in Example 2, in the 14th line from the bottom, “sfrom” should read, “from”.

4. On page 37446, in the third column, in § 1.752-7(j)(2)(ii), in the 9th and 10th lines, “§ 1.358-7, 1.752-7, § 1.704-1(b)(2)(iv)(b)” should read, “§ 1.358-7, 1.752-7, 1.704-1(b)(2)(iv)(b)”.

[FR Doc. C3-15282 Filed 9-12-03; 8:45 am]

BILLING CODE 1505-01-D